DEPARTMENT OF AGRICULTURE

Forest Service

County Line—Fourmile Project, McKean And Warren Counties, PA

AGENCY: Forest Service, USDA.

ACTION: Notice of intent to prepare an environmental impact statement.

SUMMARY: The Forest Service, Allegheny National Forest, Bradford Ranger District will prepare an environmental impact statement (EIS) to disclose the environmental consequences of the proposed County Line—Fourmile Project, and alternatives to the proposal.

The County Line—Fourmile Project area is located just north and northeast of Sheffield, Pennsylvania within Mead and Sheffield Townships in Warren County and Hamilton Township in McKean County. The total project area is approximately 12,515 acres, with 70% National Forest System lands and 30% private land.

The Forest Service is proposing to move from the existing condition of the County Line—Fourmile project area towards the Desired Future Condition, as detailed in the Allegheny National Forest Land and Resource Management Plan. Vegetation management, wildlife habitat improvements and transportation activities are proposed to respond to the following resource management needs: (1) To restore native vegetation to improve plant and wildlife habitat diversity, and move toward the desired age class distributions of forested stands, (2) To foster sustainable forest management through harvest and reforestation projects in stands needing treatment, (3) To provide high quality hardwoods and contribute to the economic vitality of local communities, (4) To improve wildlife cover and forage conditions and the distribution of non-forest wildlife habitats, (5) To improve the distribution of non-forest habitats to meet the needs of wildlife species that prefer or require herbaceous openings, and (6) To provide an adequate transportation system to facilitate the activities proposed while protecting watershed values.

Proposed activities to meet the Desired Future Condition are: (1) Initiation of regeneration harvest through a shelterwood/removal cut sequence (604 acres); (2) Completion of removal cuts on stands already treated with a shelterwood (527 acres); (3) Intermediate harvest including thinning and conifer release (199 acres); (4) Reforestation treatments including herbicide application (1080 acres), site preparation (967 acres), fertilization (644 acres), and fencing (139 acres); (5) Wildlife habitat improvement including conifer/mast underplanting (219 acres), planting shrubs and mast in openings (49 acres), opening construction/maintenance and seeding (141 acres), savannah construction (6 acres), apple tree pruning and releasing shrubs (48 acres), and vernal pool construction (9 pools); (6) Transportation activities on roads to be used for the proposed timber sale including road construction (0.6 miles), road reconstruction (2.6 miles), road maintenance (22.6 miles), limestone surfacing (5.7 miles), and stone pit expansion and construction (8 acres); and (7) Resource protection activities including closing the end of Forest Road 139.3 (0.9 miles).

DATES: Comments identifying issues concerning the effects of the proposal should be postmarked on or before June 4, 2001 to receive timely consideration in the draft EIS. See SUPPLEMENTARY INFORMATION section for public meeting dates.

ADDRESSES: Submit written comments to: Chris Ryan, Team Leader, USDA Forest Service, 3801 Pegasus Drive, Bakersfield, CA 93308. Send electronic comments to: r9_allegheny_nf@fs.fed.us. See SUPPLEMENTARY INFORMATION section for additional information about electronic filing and public meeting addresses.

FOR FURTHER INFORMATION CONTACT: Chris Ryan, Team Leader, at 661-391-6107 or Jim Apgar, Bradford Ranger District, at 814-362-4613.

SUPPLEMENTARY INFORMATION: The information presented in this notice is included to help the reviewer determine if they are interested in or potentially affected by the proposed land management activities. The information presented in this notice is summarized. Those who wish to provide comments, or are otherwise interested in the project, are encouraged to obtain additional information from the contact identified in the FOR FURTHER INFORMATION CONTACT section.

Preliminary Issues

Three preliminary issues have been identified:

1. Road Management—The Forest Service will complete a Roads Analysis, which will assess the benefits, problems and risks of the current road system within the project area and identify management opportunities. This analysis may identify road issues related to the proposal.

2. Even-Aged/Uneven-Aged Management—The Forest Plan specifies the primary silvicultural system to be used in each management area. Even-aged management is the system identified for most of the Project Area. Uneven-aged management is an option considered for inclusions such as riparian areas, wet soils, or visually sensitive areas.

The interdisciplinary team will develop and analyze at least one alternative emphasizing uneven-aged management.

3. Class A Trout Fishery—The Project Area includes Fourmile Run, which is a Class A trout fishery. Maintenance of fisheries values and water quality will be important considerations for management activities in the vicinity.

Public Involvement and Public Meetings

An Open House will be held to provide information on the Roads Analysis for this project and for other projects proposed on the Bradford Ranger District. This meeting will be held at the Bradford Ranger District Office on May 14, 2001, from 2 p.m.-7 p.m.

Comments may be sent by electronic mail to r9_allegheny_nf@fs.fed.us. Please reference the County Line—Fourmile Project on the subject line. Also, include your name and mailing address with your comments so documents pertaining to this project may be mailed to you.

Additional information concerning the proposal can be accessed on the internet in the “Projects” section of the Allegheny National Forest website, located at www.fs.fed.us/r9/allegheny.

The draft EIS is expected to be filed with the Environmental Protection Agency and available for public review by September 2001. The comment period on the draft EIS will be 45 days from the date the Environmental Protection Agency publishes the notice of availability in the Federal Register.

Comments received, including names and addresses of those who comment, will become part of the public record and may be subject to public disclosure. Any person may request the Agency to withhold a submission from the public record by showing how the Freedom of Information Act permits such confidentiality.

The Forest Service believes, at this early stage, it is important to give reviewers notice of several court rulings related to public participation in the environmental review process. First, reviewers of draft environmental impact statements must structure their participation in the environmental review of the proposal so that it is meaningful and alerts an agency to the reviewer's position and contentions (Vermont Yankee Nuclear Power Corp. v. NRDC, 435 U.S. 519 553 [1978]). Also, environmental objection that could be raised at the draft environmental impact statement state but that are not raised until after completion of the final environmental impact statement stage may be waived or dismissed by the courts (City of Angoon v. Hodel, 803 F.2nd 1016, 1022 [9th Cir. 1986] and Wisconsin Heritages, Inc. v. Harris, 490 F. Supp. 1334, 1338 [E.D. Wis. 1980]).

Because of the above rulings, it is very important that those interested in this proposed action participate by the close of the 45-day comment period so that substantive comments are made available to the Forest Service at a time when they can be meaningfully considered and responded to in the final environmental impact statement. Comments on the draft environmental impact statement should be as specific as possible. It is also helpful if comments refer to specific pages, sections, or chapters of the draft statement. Comments may also address the adequacy of the draft environmental impact statement or the merits of the alternatives formulated and discussed in the statement. Reviewers may wish to refer to Council on Environmental Quality Regulations for implementing the procedural provisions of the National Environmental Policy Act at 40 CFR 1503.3 in addressing these points. After the comment period ends on the draft EIS, the comments received will be analyzed and considered by the Forest Service in preparing the final EIS.

The final EIS is scheduled to be completed in March 2002. In the final EIS, the Forest Service is required to respond to the comments received (40 CFR 1503.4). The responsible official will consider the comments, responses, environmental consequences discussed in the environmental impact statement, and applicable laws, regulations and policies in making a decision regarding this proposal. The responsible official will document the decision and reasons for the decision in a Record of Decision. That decision will be subject to appeal under 36 CFR part 215.

The responsible official is John R. Schultz, District Ranger, Allegheny National Forest, Bradford Ranger District, HC 1, Box 88, Bradford, PA 16701.

Dated: April 24, 2001.
Dale Dunshie,
Acting Forest Supervisor,

[FR Doc. 01-11866 Filed 5-10-01; 8:45 am]

BILLING CODE 3410-11-U